DEPARTMENT OF DEFENSE

Office of the Secretary

[Transmittal No. 20-0M]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 20-0M.

Dated: June 24, 2024.
Aaron T. Siegel,
Alternate OSD Federal Register Liaison Officer.Department of Defense.

BILLING CODE 6001-FR-P

BILLING CODE 6001-FR-C

Transmittal No. 20-0M

REPORT OF ENHANCEMENT OR UPGRADE OF SENSITIVITY OF TECHNOLOGY OR CAPABILITY (SEC. 36(B)(5)(C), AECA)

(i) Purchaser: Government of the United Arab Emirates

(ii) Sec. 36(b)(1), AECA Transmittal No.: 15-51 Date: November 4, 2015 Military Department: Air Force

(iii) Description: On November 4, 2015, Congress was notified by Congressional certification transmittal number 15-51, of the possible sale under Section 36(b)(1) of the Arms Export Control Act of three thousand two hundred and fifty (3,250) GBU-31V1 (KMU-556 Joint Direct Attack Munitions (JDAM) kits); three thousand two hundred and fifty (3,250) MK-84/BLU-117 bombs; seven hundred and fifty (750) GBU-31V3 (KMU-557 JDAM kits); seven hundred and fifty (750) BLU-109 bombs; one thousand (1,000) GBU-12 Paveway II Laser Guided bomb kits; one thousand and two (1,002) MK-82/BLU-111 bombs; four thousand two hundred and fifty (4,250) FMU-152 fuzes; two hundred and sixteen (216) GBU-24 tail kits (BSU-84); non-MDE related munitions items (fuzes and bomb components), sustainment, and support. The estimated total cost was $380 million, including $365 million in Major Defense Equipment (MDE).

This transmittal reports the addition of eight hundred (800) GBU-56V1 Laser Joint Direct Attack Munitions (LJDAM) (consisting of eight hundred (800) KMU-556 tail kits (MDE); eight hundred (800) DSU-40 Laser Sensors (SME); and eight hundred (800) Mk-84 bombs (MDE)); two hundred (200) GBU-56V3 Laser JDAMs (consisting of two hundred (200) KMU-557 tail kits (MDE); two hundred (200) DSU-42 Laser Sensors (SME); and two hundred (200) BLU-109 bombs (MDE)); three thousand (3,000) FMU-139 fuzes (MDE); and associated munitions support items. The total cost of the new MDE articles is $69 million. Due to a reduction in other MDE items, the total MDE case value will remain $365 million. The total estimated case value remains $380 million.

(iv) Significance: This notification is being provided to report the inclusion of MDE items not previously notified. The UAE requested a reduction of Mk-84/BLU-117s and the addition of LJDAMs and fuzes so this proposed sale may include Mk-84/BLU-117s, LJDAMs, or a mix. The addition of the LJDAMs represents an increase in capability over what was previously notified. The proposed sale increases UAE's ability to achieve more exact targeting over a wide range of conditions and greater interoperability with the U.S. Air Force.

(v) Justification: The proposed sale will support the foreign policy and national security objectives of the United States by helping to improve the security of an important regional partner. The UAE continues to be a vital U.S. partner for political stability and economic progress in the Middle East.

(vi) Sensitivity of Technology: The GBU-56 Laser JDAM is a 2,000-pound JDAM with a DSU-40 or DSU-42 Laser Sensor. The LJDAM uses both Global Position System aided internal navigations and/or Laser guidance allowing rapid prosecution of fixed targets. The Laser Sensor also provides the additional capability to engage mobile targets. The DSU-40 Laser Sensor is attached to the MK-84 or BLU-117 bomb body, and the DSU-42 Laser Sensor is attached to the BLU-109 bomb body, which turns a standard GBU-31 JDAM into a GBU-56 Laser JDAM.

The highest level of classification of defense articles, components, and services included in this potential sale is SECRET.

(vii) Date Report Delivered to Congress: August 25, 2022.

[FR Doc. 2024-14181 Filed 6-27-24; 8:45 am]

BILLING CODE 6001-FR-P